NUCLEAR REGULATORY COMMISSION

Advisory Committee on Reactor Safeguards; Subcommittee Meeting on Safeguards and Security; Notice of Meeting

The ACRS Subcommittee on Safeguards and Security will hold a closed meeting on October 31, 2002, NRC Auditorium, 11545 Rockville Pike, Rockville, Maryland.

The entire meeting will be closed to public attendance to protect information classified as national security information pursuant to 5 U.S.C. 552b(c)(1).

The agenda for the subject meeting shall be as follows:

Thursday, October 31, 2002—8:30 a.m. until the conclusion of business.

The Subcommittee will discuss the NRC's ongoing work on the evaluation of NRC license facilities for safeguards and security vulnerabilities. The purpose of this meeting is to gather information, analyze relevant issues and facts, and to formulate proposed positions and actions, as appropriate, for deliberation by the full Committee.

Further information contact: Dr. Richard P. Savio (telephone 301/415-7363) between 7:30 a.m. and 4:15 p.m. (EDT).

Dated: October 17, 2002.
Sher Bahadur,
Associate Director for Technical Support, ACRS/ACNW.

[FR Doc. 02-26998 Filed 10-22-02; 8:45 am]

BILLING CODE 7590-01-P